Title 3—

The President

Proclamation 10218 of May 28, 2021

Prayer for Peace, Memorial Day, 2021

By the President of the United States of America

A Proclamation

On Memorial Day, we honor and reflect upon the courage, integrity, and selfless dedication of the members of our Armed Forces who have made the greatest sacrifice in service to our Nation. Whether in the waters of the Pacific, on the beachheads of Europe, in the deserts of the Middle East, or in the mountains of Afghanistan, American service members have given their lives to uphold our Constitution and to defend the safety and freedoms of our citizens. These patriots embody the best of the American spirit. They put themselves on the line for our shared values—for duty, honor, country—and they paid the ultimate price. Our Nation can never fully repay the debt we owe to our fallen heroes and their families.

Jill and I know what it means to have a child serving in a war zone—the ever-present concern for your loved one and their fellow service members. Today and every day, we ask God to protect our troops. We also recognize the tremendous loss endured by America's Gold Star families—the families of military members who died in conflict. We have a sacred obligation as a Nation to support those families and to always honor the memories of their loved ones.

That is the vow we make each year on Memorial Day. Our Nation will never forget the courage and patriotism demonstrated by the countless women and men who laid down their lives so that we may continue to pursue a more perfect Union and to protect the unalienable rights Americans hold dear. They came from every part of the country, of every background and belief, united by a shared belief in our uniquely American creed—that all people are created equal. We will honor their legacy by continuing our work to live up to that commitment and to advance the values they lived and died to defend. We will continue to fight for equity and inclusion in our country and institutions, and ensure every qualified American who is willing to serve our country—regardless of race, religion, gender identity, sexual orientation, or background—has a fair and equal opportunity to do so.

We will continue to honor our fallen service members through the actions of a new generation who volunteer to serve in uniform, who anchor our military to our democratic values, and who stand ready to deter aggression from our enemies and, if required, fight and defend our Nation. Today—as we keep true to the memory of our fallen heroes—we will endeavor to meet their legacy and once more lead the world through the power of our example and not just the example of our power.

As our Nation's service members continue to risk their lives to protect our homeland and thwart our enemies, we must not lose sight of our desire for enduring peace. Every day, countless Americans pray and work for peace so that we may one day live in a world where American patriots need not make the ultimate sacrifice, and where all people live in freedom and prosperity. As a Nation, we are grateful to the brave members of our Armed Services—both past and present—who have forged the legacy for that possibility.

In honor and recognition of all of our fallen service members, the Congress, by a joint resolution approved May 11, 1950, as amended (36 U.S.C. 116), has requested that the President issue a proclamation calling on the people of the United States to observe each Memorial Day as a day of prayer for permanent peace and designating a period on that day when the people of the United States might unite in prayer and reflection. The Congress, by Public Law 106-579, has also designated 3:00 p.m. local time on that day as a time for all Americans to observe, in their own way, the National Moment of Remembrance.

NOW, THEREFORE, I, JOSEPH R. BIDEN JR., President of the United States of America, do hereby proclaim Memorial Day, May 31, 2021, as a day of prayer for permanent peace, and I designate the hour beginning in each locality at 11:00 a.m. of that day as a time when people might unite in prayer and reflection. I urge the press, radio, television, and all other information media to cooperate in this observance. I further ask all Americans to observe the National Moment of Remembrance beginning at 3:00 p.m. local time on Memorial Day.

I request the Governors of the United States and its Territories, and the appropriate officials of all units of government, to direct that the flag be flown at half-staff until noon on this Memorial Day on all buildings, grounds, and naval vessels throughout the United States and in all areas under its jurisdiction and control. I also request the people of the United States to display the flag at half-staff from their homes for the customary forenoon period.

IN WITNESS WHEREOF, I have hereunto set my hand this twenty-eighth day of May, in the year of our Lord two thousand twenty-one, and of the Independence of the United States of America the two hundred and forty-fifth.

[FR Doc. 2021-11817

Filed 6-2-21; 11:15 am]

Billing code 3295-F1-P